DEPARTMENT OF COMMERCE

International Trade Administration

[A-583-008]

Circular Welded Carbon Steel Pipes and Tubes From Taiwan: Notice of Partial Rescission of Antidumping Duty Administrative Review

AGENCY: Import Administration, International Trade Administration, Department of Commerce.

SUMMARY: On June 28, 2011, the Department of Commerce (the Department) published a notice of initiation of an administrative review of the antidumping duty order on circular welded carbon steel pipes and tubes from Taiwan. The review covers eight firms. Based on a withdrawal of the requests for review of certain companies from United States Steel Corporation (Petitioner), we are now rescinding this administrative review with respect to six of those firms.

DATES: Effective Date: September 15, 2011.

FOR FURTHER INFORMATION CONTACT: Steve Bezirganian or Robert James, AD/CVD Operations, Office 7, Import Administration, International Trade Administration, U.S. Department of Commerce, 14th Street and Constitution Avenue, NW., Washington, DC 20230; telephone: (202) 482-1131 or (202) 482-0649, respectively.

Background

On June 28, 2011, the Department published in the Federal Register a notice of initiation of an administrative review of the antidumping duty order on circular welded carbon steel pipes and tubes from Taiwan covering the period May 1, 2010, through April 30, 2011. See Initiation of Antidumping and Countervailing Duty Administrative Reviews and Request for Revocation in Part, 76 FR 37781 (June 28, 2011). The review covers eight companies. The Petitioner was the sole party to request reviews of these eight companies.

On August 8, 2011, the Petitioner withdrew its request for an administrative review for the following six companies: (1) E United Group; (2) Yieh Corp.; (3) Yieh Hsing Enterprise Co., Ltd.; (4) Far East Machinery Co. Ltd.; (5) Kao Hsing Chang Iron & Steel Corp. (also known as Kao Hsiung Chang Iron & Steel Corp.); and (6) Tension Steel Industries Co. Ltd.

Partial Rescission

The applicable regulation, 19 CFR 351.213(d)(1), states that if a party that requested an administrative review withdraws the request within 90 days of the publication of the notice of initiation of the requested review, the Secretary will rescind the review. The Petitioner withdrew its review request with respect to six companies within the 90-day deadline, in accordance with 19 CFR 351.213(d)(1).

Therefore, in accordance with section 351.213(d)(1) of the Department's regulations, we are partially rescinding this review with respect to the following six companies: (1) E United Group; (2) Yieh Corp.; (3) Yieh Hsing Enterprise Co., Ltd.; (4) Far East Machinery Co. Ltd.; (5) Kao Hsing Chang Iron & Steel Corp. (also known as Kao Hsiung Chang Iron & Steel Corp.); and (6) Tension Steel Industries Co. Ltd. This review will continue with respect to Yieh Phui Enterprise Co., Ltd. and Chung Hung Steel Corp.

Assessment Instructions

The Department will instruct U.S. Customs and Border Protection (CBP) to assess antidumping duties on all appropriate entries. For the companies for which this review is rescinded, antidumping duties shall be assessed at rates equal to the cash deposit of estimated antidumping duties required at the time of entry, or withdrawal from warehouse, for consumption, in accordance with 19 CFR 351.212(c)(1)(i). The Department intends to issue appropriate assessment instructions directly to CBP 15 days after publication of this notice.

Notification to Importers

This notice serves as a final reminder to importers for whom this review is being rescinded of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

Notification Regarding Administrative Protective Orders

This notice also serves as a reminder to parties subject to administrative protective orders (APO) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

This notice is issued and published in accordance with section 777(i)(1) of the Tariff Act of 1930, as amended, and 19 CFR 351.213(d)(4).

Dated: September 7, 2011.
Christian Marsh,
Deputy Assistant Secretary for Antidumping and Countervailing Duty Operations.

[FR Doc. 2011-23685 Filed 9-14-11; 8:45 am]

BILLING CODE 3510-DS-P